DEPARTMENT OF COMMERCE

Bureau of Economic Analysis

Proposed Information Collection; Comment Request; Foreign Airline Operators' Revenues and Expenses in the United States

ACTION: Notice.

SUMMARY: The Department of Commerce, as part of its continuing effort to reduce paperwork and respondent burden, invites the general public and other Federal agencies to comment on proposed and/or continuing information collections, as required by the Paperwork Reduction Act of 1995.

DATES: Written comments must be submitted on or before 5 p.m. September 11, 2012.

ADDRESSES: Direct all written comments to Jennifer Jessup, Departmental Paperwork Clearance Officer, Department of Commerce, Room 6616, 14th and Constitution Avenue NW., Washington, DC 20230, or via email at jjessup@doc.gov.

FOR FURTHER INFORMATION CONTACT: Direct requests for additional information or copies of the survey and instructions to Damon Battaglia Special Surveys Branch, Balance of Payments Division, (BE-50), Bureau of Economic Analysis, U.S. Department of Commerce, Washington, DC 20230; phone: (202) 606-9826; fax: (202) 606-5318; or via email at damon.battaglia@bea.gov.

SUPPLEMENTARY INFORMATION:

I. Abstract

Form BE-9, Foreign Airline Operators' Revenues and Expenses in the United States, obtains quarterly data from U.S. offices, agents, or other representatives of foreign airline operators that transport passengers or freight and express to or from the United States and whose covered revenues or total covered expenses were $5,000,000 or more during the previous year or are expected to be $5,000,000 or more during the current year. The covered revenues are freight revenue on merchandise exported from, and imported into, the United States and shipping weights on which the freight revenues were earned. The covered expenses are expenses incurred in the United States for fuel and oil, wages and salaries paid to employees in the United States, agents' and brokers' fees and commissions for arrangement of freight and passenger transportation, aircraft handling and terminal services, aircraft (with crew) leasing expenses, and all other expenses incurred in the United States except aircraft leasing (without crew) expenses.

The data collected are cut-off sample data. The Bureau of Economic Analysis (BEA) estimates data for non-respondents.

The data are needed to monitor U.S. international trade in transportation services to analyze its impact on the U.S. and foreign economies, to compile and improve the U.S. economic accounts, to support U.S. commercial policy on trade in transportation services, to conduct trade promotion, and to improve the ability of U.S. businesses to identify and evaluate market opportunities.

Responses will be due within 45 days after the close of each calendar quarter. The data from the survey are primarily intended as general purpose statistics. They are needed to answer any number of research and policy questions related to foreign airline operators' revenues and expenses in the United States.

There are two significant changes to the survey: (1) Two questions have been added to collect data on the number of passengers transported to/from the United States and the revenues associated with these passengers. (2) The due date for the survey has been changed to 45 days after the end of the calendar quarter from 50 days after the end of the calendar quarter. The remainder of the form is unchanged from the prior version. No changes in exemption levels are proposed.

II. Method of Collection

The surveys are sent to the respondents by U.S. mail; the surveys are also available from the BEA Web site. Respondents return the surveys one of four ways: U.S. mail, electronically using BEA's electronic collection system (eFile), fax, or email.

III. Data

OMB Control Number: 0608-0068.

Form Number: BE-9.

Type of Review: Regular submission.

Affected Public: Business or other for-profit organizations.

Estimated Number of Respondents: 72 per quarter; 288 annually.

Estimated Time per Response: 6 hours.

Estimated Total Annual Burden Hours: 1,728.

Estimated Total Annual Cost to Public: $0.

Respondent's Obligation: Mandatory.

Legal Authority: The International Investment and Trade in Services Survey Act, 22 U.S.C. 3101-3108, as amended.

IV. Request for Comments

Comments are invited on: (a) Whether the proposed collection of information is necessary for the proper performance of the functions of the Agency, including whether the information will have practical utility; (b) the accuracy of the Agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 10, 2012.
Glenna Mickelson,
Management Analyst, Office of Chief Information Officer.

[FR Doc. 2012-17138 Filed 7-12-12; 8:45 am]

BILLING CODE 3510-06-P